DEPARTMENT OF TRANSPORTATION

Federal Aviation Administration

14 CFR Part 39

[Docket No. FAA-2009-1185; Directorate Identifier 2009-NE-24-AD]

RIN 2120-AA64

Airworthiness Directives; Honeywell International LTS101-600A Series and LTS101-700D-2 Turboshaft Engines and LTP101-600A-1A, and LTP101-700A-1A Turboprop Engines

AGENCY: Federal Aviation Administration (FAA), DOT.

ACTION: Notice of proposed rulemaking (NPRM).

SUMMARY: The FAA proposes to adopt a new airworthiness directive (AD) for Honeywell International LTS101-600A series and LTS101-700D-2 turboshaft engines and LTP101-600A-1A, and LTP101-700A-1A turboprop engines with power turbine blades, part number (P/N) 4-141-084-06, installed. This proposed AD would require removing power turbine blades, P/N 4-141-084-06 from service, using a drawdown schedule specified in this proposed AD. This proposed AD results from reports of fatigue cracks in the airfoil of the power turbine blade. We are proposing this AD to prevent fracture of the power turbine blade airfoil, which could result in sudden loss of engine power.

DATES: We must receive any comments on this proposed AD by February 19, 2010.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact Honeywell International Inc., P.O. Box 52181, Phoenix, AZ 85072-2181; telephone (800) 601-3099 (U.S.A.) or (602) 365-3099 (International); or go to: https://portal.honeywell.com/wps/portal/aero, for a copy of the service information identified in this proposed AD.

FOR FURTHER INFORMATION CONTACT: Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210.

SUPPLEMENTARY INFORMATION:

Comments Invited

We invite you to send us any written relevant data, views, or arguments regarding this proposal. Send your comments to an address listed under ADDRESSES. Include “Docket No. FAA-2009-1185; Directorate Identifier 2009-NE-24-AD” in the subject line of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

We have received reports of two power turbine blades, P/N 4-141-084-06, that had fractures at the mid span of the airfoil. Honeywell's analysis of the fractured blades and field returned blades identified a manufacturing processing issue, with some blades, which may result in crack development between the platinum core pins and the blade material. This condition, if not corrected, could result in fracture of the power turbine blade airfoil, which could result in sudden loss of engine power.

Differences Between the Proposed AD and the Manufacturer's Service Information

Honeywell International Inc. Service Bulletin (SB) LT 101-71-00-0252, dated December 12, 2008, describes procedures and a drawdown schedule for removing power turbine rotors, P/Ns 4-141-290-01, -03, -05, -06, -11, -12, -13, and -14. This proposed AD would limit the actions to removing power turbine blades, P/N 4-141-084-06, from service using the same drawdown schedule specified in the SB for the power turbine rotors.

FAA's Determination and Requirements of the Proposed AD

We have evaluated all pertinent information and identified an unsafe condition that is likely to exist or develop on other products of this same type design. We are proposing this AD, which would require removing power turbine blades, P/N 4-141-084-06, from service using a specific drawdown schedule.

Costs of Compliance

We estimate that this proposed AD would affect 25 engines installed on aircraft of U.S. registry. We also estimate that it would take about 30 work-hours per engine to perform the proposed actions, and that the average labor rate is $80 per work-hour. Required parts would cost about $70,000 per engine. Based on these figures, we estimate the total cost of the proposed AD to U.S. operators to be $1,810,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (Formerly AlliedSignal, Textron Lycoming): Docket No. FAA-2009-1185; Directorate Identifier 2009-NE-24-AD.

Comments Due Date

(a) The Federal Aviation Administration (FAA) must receive comments on this airworthiness directive (AD) action by February 19, 2010.

Affected ADs

(b) None.

Applicability

(c) This AD applies to Honeywell International LTS101-600A-2, -3, -3A, and LTS101-700D-2 turboshaft engines; and LTP101-600A-1A and LTP101-700A-1A turboprop engines with power turbine blades, part number (P/N) 4-141-084-06, installed. These engines are installed on, but not limited to, Eurocopter AS350 series helicopters and Page Thrush, Air Tractor AT-302, and Pacific Aero 08-600 airplanes.

Unsafe Condition

(d) This AD results from reports of fatigue cracks in the airfoil of the power turbine blade. We are issuing this AD to prevent fracture of the power turbine blade airfoil, which could result in sudden loss of engine power.

Compliance

(e) You are responsible for having the actions required by this AD performed within the compliance times specified unless the actions have already been done.

(f) For engines with power turbine rotors, P/Ns 4-141-290-11, -12, -13, and -14, marked with “ORI T41881,” on the aft hub in the vicinity of the P/N, no further action is required.

Removing Power Turbine Blades, P/N 4-141-084-06

(g) Remove power turbine blades, P/N 4-141-084-06, using the cycles specified in Table 1 of this AD:

Table 1—Drawdown Times for Power Turbine Blades, P/N 4-141-084-06
If power turbine rotor time on the effective date of this AD is * * * | Then remove the blades from the power turbine rotor * * *
(1) Fewer than 5,000 cycles-since-new (CSN) | Before exceeding 5,500 CSN.
(2) 5,000 to 7,499 CSN | Within 500 cycles-in-service (CIS) after the effective date of this AD or before exceeding 8,000 CSN, whichever occurs first.
(3) 7,500 to 9,999 CSN | Within 100 CIS after the effective date of this AD or before exceeding 10,050 CSN, whichever occurs first.
(4) 10,000 or more CSN | Within 50 CIS after the effective date of this AD.

Alternative Methods of Compliance

(h) The Manager, Los Angles Aircraft Certification Office, has the authority to approve alternative methods of compliance for this AD if requested using the procedures found in 14 CFR 39.19.

Related Information

(i) Contact Robert Baitoo, Aerospace Engineer, Los Angeles Aircraft Certification Office, FAA, Transport Airplane Directorate, 3960 Paramount Blvd., Lakewood, CA 90712-4137; e-mail: robert.baitoo@faa.gov; telephone (562) 627-5245; fax (562) 627-5210, for more information about this AD.

(j) Honeywell International Inc. Service Bulletin LT 101-71-00-0252, dated December 12, 2008, pertains to the subject of this AD. Contact Honeywell International Inc., P.O. Box 52181, Phoenix, AZ 85072-2181; telephone (800) 601-3099 (U.S.A.) or (602) 365-3099 (International); or go to: https://portal.honeywell.com/wps/portal/aero, for a copy of this service information.

Issued in Burlington, MA, on December 11, 2009.
Peter A. White,
Assistant Manager, Engine and Propeller Directorate, Aircraft Certification Service.

[FR Doc. E9-30220 Filed 12-18-09; 8:45 am]

BILLING CODE 4910-13-P